DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of February 29, 2016 through March 25, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W number | Subject firm | Location | Impact date
85,022 | Intrepid Potash Inc., Intrepid Potash, LLC-New Mexico, Intrepid Potash, LLC-Moad Delaware, etc | Carlsbad, NM | January 17, 2013
85,081 | Larsen Manufacturing Southwest, Employers Solution Saffing Group and Flexicorps | El Paso, TX | February 20, 2013
85,155 | DMI Edon, LLC, Diversified Machine, Inc., Chassix, Inc | Edon, OH | March 4, 2013
85,245 | Detroit Tool & Engineering, Inc | Lebanon, MO | April 16, 2013
85,397 | Accenture, LLP, Business Process Specialization | Charlotte, NC | June 25, 2013
85,497 | INVISTA S.A.R.L., Apparel Division, Koch Industries, Inc | Waynesboro, VA | December 15, 2013
86,011 | Goodman Networks, Inc., Core Network Engineering (Deployment Engineering) Division | Plano, TX | February 9, 2015
86,011A | Goodman Networks, Inc., Core Network Engineering (Deployment Engineering) Division | Alpharetta, GA | February 9, 2015
86,011B | Goodman Networks, Inc., Core Network Engineering (Deployment Engineering) Division | Hunt Valley, MD | February 9, 2015
86,011C | Goodman Networks, Inc., Core Network Engineering (Deployment Engineering) Division | Naperville, IL | February 9, 2015
86,011D | Goodman Networks, Inc., Core Network Engineering (Deployment Engineering) Division | St. Louis, MO | February 9, 2015
86,104 | Northwest Pipe Company, IMKO Workforce Solutions | Atchison, KS | June 17, 2014
86,127 | Johnson Metall, Inc., A.E. Cole, Johnson Metall Group | Lorain, OH | May 29, 2014
90,122 | Allied Tube & Conduit Corporation, Atkore International Group, Inc., Atkore International, Randstad, etc | Philadelphia, PA | January 1, 2014
90,136 | Modine Manufacturing Company | Jefferson City, MO | January 1, 2014
90,149 | US Green Fiber, LLC | Hagaman, NY | January 1, 2014
90,151 | Sherwood Valve LLC, Mueller Industries | Washington, PA | June 8, 2015
90,217 | Keystone Profiles, Ltd | Beaver Falls, PA | January 1, 2014
90,272 | Gerdau Ameristeel US Inc., Gerdau Ameristeel Corporation, BARR, Rumpca, G4S, First Class Mill, etc | St. Paul, MN | April 2, 2015
91,090 | AK Steel Corporation, Ashland Works, AK Steel Holding Corp., RMI Int'l and ESM Group, Manpower | Ashland, KY | October 26, 2014
91,095 | WestRock SP Company, Paper Solutions Division, WestRock Companies | Newberg, OR | October 30, 2014
91,352 | Noranda Aluminum, Inc., Noranda Aluminum Holding Corporation, Manpower | New Madrid, MO | February 5, 2016
91,352A | Express Personnel and Randstad, Noranda Aluminum, Inc., Noranda Aluminum Holding Corporation | New Madrid, MO | January 14, 2015
91,472 | Freeport-McMoRan Miami, Inc., Freeport-McMoRan Corporation, 5D Mining & Construction, Inc | Claypool, AZ | February 16, 2015

The following certifications have been issued. The requirements of Section 222(a)(2)(B) (shift in production or services) of the Trade Act have been met.

TA-W number | Subject firm | Location | Impact date
85,031 | Iron Mountain Information Management, LLC, Iron Mountain Incorporated, Allegis Group Services, Inc | Boston, MA | January 22, 2013
85,150 | Clearwire Corporation, Sprint/United Management Company, Sprint Corporation | Palatine, IL | March 12, 2013
85,180 | Hewlett Packard, Business Processing Services-CRM, Enterprise, Volt Services Group, etc | Boise, ID | March 26, 2013
85,228 | Nilfisk-Advance, Inc., NKT Holding Group, Staffing Partners Administrative Group, etc | Plymouth, MN | April 12, 2014
85,251 | Hewlett Packard Company, Engineering Software Support Services Group, Americas Quality, etc | Boise, ID | April 18, 2013
85,301 | Citigroup Technology, Inc. (CTI), Citigroup, Inc., Global Distributed NAS Storage Operations, etc | Warren, NJ | May 7, 2013
85,325 | TATA Technologies, Inc., Interiors Group, Chrysler Technology Center (CTC) | Auburn Hills, MI | May 20, 2013
85,398 | Dell USA LP, Denali, Inc., End User Computing E-Support Escalations | Round Rock, TX | June 25, 2013
85,451 | Fifth Third Mortgage Company, Wholesale Channel Division | Cincinnati, OH | July 25, 2013
85,468 | Comcast Cable, Central Division Customer Care | Alpharetta, GA | August 6, 2013
85,573 | MotivePower, Inc., Wabtec Corporation, Express, Volt, PMG, and SGW | Boise, ID | September 26, 2013
85,640 | Covidien LP, North American Shared Services Group | Mansfield, MA | November 10, 2013
85,721 | Workers of IBM Corporation, Citibank, IBM Corporation, Service Desk, Randstad Technologies, etc | San Antonio, TX | December 12, 2013
85,731 | Sun Life Financial (U.S.) Services Company, Inc., Sun Life Inc., Adecco USA, Inc | Wellesley Hills, MA | August 3, 2014
85,734 | Magy Staffing, Magy Group | Holland, OH | December 16, 2013
85,741 | Maersk Agency USA Inc., Finance Division, A.P. Moller-Maersk A/S | Charlotte, NC | May 18, 2014
85,741A | On-Site Leased Workers from Talent Bridge, Maersk Agency USA, Inc., Finance Division, A.P. Moller-Maersk A/S | Charlotte, NC | December 19, 2013
85,762 | Advanced Ion Beam Technology, Inc | Danvers, MA | January 13, 2014
85,766 | Dallas Airmotive, Inc., Premier Turbines, Inc | Neosho, MO | January 14, 2014
85,782 | Flight Line Products LLC, Pirate Staffing | Valencia, CA | January 22, 2014
85,804 | Convergys Corporation | Jacksonville, TX | February 2, 2014
85,808 | Jones Apparel US LLC, Wise Staffing | Lawrenceburg, TN | March 22, 2014
85,811 | Chancellors, Master, & Scholars, of the University of Cambridge, University of Cambridge | West Nyack, NY | January 29, 2014
85,833 | Milestone Systems, Inc., Connex International, Inc., EMEA & APAC Departments | Burnsville, MN | February 13, 2014
85,891 | Fender Musical Instruments Corporation, FMIC | Corona, CA | March 19, 2014
85,930 | Teva Pharmaceuticals USA, Inc., Teva Pharmaceuticals Industries LTD | Kutztown, PA | April 7, 2014
86,018 | Intel Corporation, IT Division | Rio Rancho, NM | May 15, 2014
86,025 | Watson Labs, Allergan/Actavis, Inc., Allsource, On Assignment, Lancesoft, etc | Corona, CA | May 20, 2014
86,034 | Technicolor Creative Services USA, Inc., Mastering Department, Technicolor USA, Inc | Hollywood, CA | May 22, 2014
86,085 | BlackBerry Corporation | Milford, CT | June 10, 2014
86,105 | Labinal Salisbury, LLC, Labinal, LLC, Quality Staffing, Inc | Salisbury, MD | June 17, 2014
90,040 | Kinze Manufacturing, Inc., Tek Systems and Baker Group | Williamsburg, IA | January 1, 2014
90,082 | Lumentum Operations LLC, Lumentum Holdings Inc., JDS Uniphase, Randstad | Bloomfield, CT | January 1, 2014
90,199 | AIG PC Global Services, Inc., Fusion—Berkeley Heights | Berkeley Heights, NJ | January 1, 2014
90,213 | Volvo Construction Equipment North America, LLC, Manpower, Aerotek, Kelly Services, and Randstad | Shippensburg, PA | January 1, 2014
91,023 | Motorola Mobility, LLC | Lawrenceville, GA | October 2, 2014
91,023A | Motorola Mobility, LLC, 222 West Merchandise Mart Site, Kelly OCG, Teksystems, etc | Chicago, IL | October 2, 2014
91,023B | Motorola Mobility, LLC, 965 West Chicago Avenue Site, Kelly OCG | Chicago, IL | October 2, 2014
91,023C | Motorola Mobility, LLC, Foxconn | Fort Worth, TX | October 2, 2014
91,023D | Motorola Mobility, LLC, Kelly OCG, Teksystems, and TATA Consultancy Services | Plantation, FL | October 2, 2014
91,023E | Motorola Mobility, LLC, Kelly OCG, Teksystems, and TATA Consultancy Services | Sunnyvale, CA | October 2, 2014
91,045 | Higher One, Inc., High One Machines, Inc | New Haven, CT | October 9, 2014
91,057 | Voya Retirement Insurance and Annuity Company, Finance and Accounting Departments, Voya Holdings, Inc | Windsor, CT | October 16, 2014
91,072 | Patriot Special Metals Inc., Employ-Temp Staffing Services | Canton, OH | May 24, 2015
91,075 | Stant Romeo, Stant USA Corp., Stant Inc | Romeo, MI | October 27, 2014
91,092 | One Call Care Management, Agility HR Group/Agility Staffing, Alluvion Staffing, Kelly Services, etc | Jacksonville, FL | October 29, 2014
91,092A | One Call Care Management, Agility HR Group/Agility Staffing, Kelly Services, Express Employment, etc | Tampa, FL | October 29, 2014
91,098 | Motorola Solutions, Inc., Global Customer Documentation Group, Kelly OCG | Schaumburg, IL | October 30, 2014
91,142 | BASF Corporation, Finance Division, BASF Services Americas S.R.L., BASF SE, etc | Florham Park, NJ | November 13, 2014
91,146 | Nidec Motor Corporation, Nidec Commercial & Residential Motors Group, Nidec, Staffmark, etc | Paragould, AR | November 16, 2014
91,166 | EMPI, DJO Global, LLC, Aerotek, CFS, Princetonone, Tempforce, etc | Shoreview, MN | November 19, 2014
91,180 | Motorola Solutions, Inc., Hardware Engineering, Infrastructure Products/Systems Organization | Schaumburg, IL | November 30, 2014
91,219 | AVX Corporation, Passive Components Division, Kyocera Corporation, South Coast Networks | Myrtle Beach, SC | December 13, 2015
91,219A | AVX Corporation, Passive Components Division, Kyocera Corporation | Conway, SC | December 13, 2015
91,228 | Johnson Controls, Hart & Cooley, Elwood Staffing | Nampa, ID | December 14, 2014
91,285 | Gildan Apparel USA, Hamer Division, Anvil Knitwear (Gildan), Olsten Staffing and Total, etc | Hamer, SC | January 5, 2015
91,316 | Martel, Fluke Corporation/Danaher, Micro Tech | Derry, NH | January 7, 2015
91,339 | MBDA Incorporated, MBDA UK LTD, Triad Systems International | Camarillo, CA | January 12, 2015
91,357 | WestRock Services, Inc., Paper Solutions Division, fka Rocktenn, Superior Talent Resources, Inc | Uncasville, CT | January 15, 2015
91,377 | BAE Systems Controls Inc., Electronic Systems Division, BEA Systems, Inc., ACRO Services | Fort Wayne, IN | January 21, 2015
91,386 | Belden, Nesco, Industrial Cleaning, and Monticello Tool and Die | Monticello, KY | January 22, 2015
91,390 | Kathrein Inc., Scala Division, Kathrein Holding USA, Express Employment Professionals | Medford, OR | June 3, 2016
91,399 | INVISTA S.a.r.l., Adipic Acid Unit, Koch Industries, Innovative Turnaround Controls Ltd, etc | Orange, TX | January 27, 2015
91,423 | Heraeus Materials Technology North America, Heraeus Holding GMBH | Chandler, AZ | April 13, 2015
91,423A | Intuitive HRO LLC, Heraues Materials Technology North America, Heraeus Holding GMBH | Chandler, AZ | February 2, 2015
91,427 | The Babcock & Wilcox Company | West Point, MS | February 2, 2015
91,440 | dlhBOWLES, FNA DLH Industries, Inc., @Work Personnel Services | Bristol, TN | February 4, 2015
91,442 | Sulzer Pumps (US) Inc., Pumps Equipment Division, Link Staffing and Snell Staffing | Brookshire, TX | February 5, 2015
91,451 | Metro Paper Industries of NY Inc., Metro Paper Industries Tissue Group, Kelly Services, Penski, Inc | Carthage, NY | February 9, 2015
91,453 | Rexnord Industries LLC, Express Employment, Tech USA, Randstad, Randstad Engineering | Clinton, TN | February 10, 2015
91,479 | Clover Technologies Group, LLC, Environmental Reclamation Services Division, Career Concepts | Erie, PA | February 17, 2015
91,502 | Eaton Corporation, Bartech Group | Berea, OH | February 22, 2015
91,503 | Heil Trailer International, Co., American Industrial Partners, Onin Staffing and Smith Personnel | Rhome, TX | February 22, 2015
91,538 | Campbell Soup Company, Deductions and Trade Payments Team, Global Transaction Services, etc | Camden, NJ | June 18, 2015
91,556 | Bradken, Inc., Engineered Products Division, Bradken Limited | St. Joseph, MO | March 4, 2015
91,586 | Maersk Agency USA, Inc., Customer Service Department | The Woodlands, TX | March 11, 2015

The following certifications have been issued. The requirements of Section 222(b) (supplier to a firm whose workers are certified eligible to apply for TAA) of the Trade Act have been met.

TA-W number | Subject firm | Location | Impact date
86,112 | Avantor Performance Materials, Inc., Kelly Services and Hamilton Ryker | Paris, KY | June 22, 2014
91,154 | Allen Logging Company | Forks, WA | November 17, 2014
91,254 | Idea Drilling, LLC, First Drilling, LLC | Virginia, MN | December 21, 2014
91,287 | Austin Powder Company, Austin Powder Holdings, Viking Explosives & Supply Inc | Hibbing, MN | January 5, 2015
91,321 | Nelson Williams Linings, Inc | Mt. Iron, MN | January 8, 2015

The following certifications have been issued. The requirements of Section 222(b) (downstream producer for a firm whose workers are certified eligible to apply for TAA) of the Trade Act have been met.

TA-W number | Subject firm | Location | Impact date
90,123 | Lake Terminal Railroad Company, Transtar, Inc | Lorain, OH | January 1, 2014
91,268 | Wisconsin Central Ltd., Grand Trunk Corporation (GTC) | Duluth, MN | December 29, 2014

The following certifications have been issued. The requirements of Section 222(e) (firms identified by the International Trade Commission) of the Trade Act have been met.

TA-W number | Subject firm | Location | Impact date
91,593 | Alexander & Baldwin, LLC, Hawaiian Commercial and Sugar Company, Exceptional, DBA Employers Options | Puunene, HI | November 16, 2014

Negative Determinations For Worker Adjustment Assistance

In the following cases, the investigation revealed that the eligibility criteria for worker adjustment assistance have not been met for the reasons specified.

The investigation revealed that the criterion under paragraph (a)(1) or (b)(1) (employment decline or threat of separation) of section 222 has not been met.

TA-W number | Subject firm | Location | Impact date
85,057 | Hyosung USA, Inc., Utica Plant, Hyosung Holdings USA, Inc | Utica, NY |
85,119 | Hewlett Packard Company, GSD Supplier and Sourcing, Enterprise Group | Palo Alto, CA |
85,148 | Laserwords U.S. Inc., Maine Division, Laserwords Pvt. Ltd., SPI Global | Lewiston, ME |
85,222 | Air System Components, Inc., Building Products Division | Ponca City, OK |
85,232 | Dex Media, Inc., Formerly Known as Supermedia, LLC | Erie, PA |
85,251A | Hewlett Packard Company, Data Analysis Group, Americas Quality and CA, etc | Boise, ID |
85,251B | Hewlett Packard Company, Americas Supply Chain, Consumer Retail Channel Support, etc | Boise, ID |
85,273 | Destination Rewards, Inc., Deluxe Financial Services, LLC, Quality Assurance Department | Boca Raton, FL |
85,278 | Swan Dyeing and Printing Corporation | Fall River, MA |
85,296 | ArcSoft, Inc., Customer Support Department | Fremont, CA |
85,393 | Chemtura Corporation | West Lafayette, IN |
85,549 | Humana, Finance Department, Disbursements, GenPact International | Louisville, KY |
91,018 | Technicolor Connected Home USA LLC, CDI Corporation | Indianapolis, IN |
91,331 | Motion Industries | Mountain Iron, MN |

The investigation revealed that the criteria under paragraphs (a)(2)(A)(i) (decline in sales or production, or both) and (a)(2)(B) (shift in production or services to a foreign country) of section 222 have not been met.

TA-W number | Subject firm | Location | Impact date
85,362 | Catawissa Wood and Components, Inc., Panneaux Maski, Inc | Elysburg, PA |
91,375 | J.V. Industrial Companies, Ltd | Skiatook, OK |
91,394 | SweetWorks Confections, LLC, A Chocolate Frey Company, Remedy Intelligent Staffing | Buffalo, NY |

The investigation revealed that the criteria under paragraphs (a)(2)(A) (increased imports) and (a)(2)(B) (shift in production or services to a foreign country) of section 222 have not been met.

TA-W number | Subject firm | Location | Impact date
85,004 | Resorts World Casino | Queens, NY |
85,010 | The Smithfield Packing Company, Incorporated, Smithfield Foods, Inc., Accountemps, Corestaff, Randstad | Landover, MD |
85,015 | Leviton Manufacturing Company, Inc., Plant 22 | West Jefferson, NC |
85,037 | Honeywell, Aerospace Division, Aerotek, Manpower, Nesco, and PDS Tech | Irving, TX |
85,045 | I2S, LLC, American Metals Processing, Inc., Accountemps, Monroe Staffing, etc | Yalesville, CT |
85,050 | Carthage Area Hospital, Critical Care Unit | Carthage, NY |
85,051 | VEC Technology, LLC, J&D Holdings, LLC | Greenville, PA |
85,062 | Computer Sciences Corporation, Raytheon Corporation, Space and Airborne Systems | El Segundo, CA |
85,067 | FLSmidth USA, Inc., Material Handling Business Unit, Engineering Dept., Humanix, Volt, etc | Meridian, ID |
85,068 | GE Hitachi Nuclear Energy, General Electric Company | Canonsburg, PA |
85,069 | Allstate Insurance (Allstate), The Allstate Corporation, Allstate Technology & Operations (ATO), etc | Roanoke, VA |
85,077 | Caterpillar, Inc., Integrated Manufacturing Operations Division (IMOD), Volt Workforce Sol | Pulaski, VA |
85,083 | Transtrade Operators, Inc., Transtrade Brokers, Nextemp, Texas Lonestar Staffing, Accounting Now, etc | DFW Airport, TX |
85,107 | Honeywell Federal Manufacturing & Technologies LLC, Honeywell International, Inc | Kansas City, MO |
85,112 | UL, LLC, Underwritters Laborators Inc | Melville, NY |
85,121 | Roseburg Forest Products Company, Riddle Plywood Division, Selectemp | Riddle, OR |
85,127 | Mid-Atlantic Manufacturing & Hydraulics, Inc., Swanson Industries, Manpower | Rural Retreat, VA |
85,131 | Mitsubishi Nuclear Energy Systems, Inc | Irving, TX |
85,174 | AT&T Corp., Home Solutions (Value), 1500 Penn Avenue | Pittsburgh, PA |
85,181 | Innovative Hearth Products, LLC, Innovative Hearth Holdings, LLC | Union City, TN |
85,229 | Trane U.S., Inc., Ingersoll Rand | La Crosse, WI |
85,231 | Convergys, Aerotek | Denver, CO |
85,264 | Cloud Cap Technology, Inc., United Technologies Corp | Hood River, OR |
85,274 | Eternal Fortune Fashion LLC, Ladies Division | New York, NY |
85,287 | Quad/Graphics Marketing, LLC, Marengo Division, Quad/Graphics, Inc., Labor Ready Midwest, Inc., Manpower | Marengo, IA |
85,291 | ProLogix Distribution Services, East, Jim Pattison Group (JPG) | Spring Arbor, MI |
85,331 | Music Group Services US, Marketing Department | Bothell, WA |
85,375 | Caterpillar, Inc., Global Mining Sales and Support Division, Pearisburg Rebuild and Repair Ops | Pearisburg, VA |
85,387 | John Deere Harvester Works, Deere & Company | East Moline, IL |
85,396 | Fabricast Valve, LLC, American Work Force, Express Services, Inc., Total Employment & Management | Longview, WA |
85,433 | Wolff Fording and Company, Partnership Staffing | Richmond, VA |
85,462 | Microsoft Corporation, Xbox Entertainment Studio | Santa Monica, CA |
85,467 | Electrolux Home Care Products, Inc., Distribution Center | El Paso, TX |
85,538 | Centurylink, Inc., Business Service Delivery and Operations Customer Care Organization, etc | Seattle, WA |
85,555 | Artic Timber, Inc | Cosmopolis, WA |
85,562 | Gleason Clay Company LLC | Gleason, TN |
85,575 | AMFIRE Mining Company, LLC, Alpha Natural Resources, Inc., David Stanley Consultants, LLC | Portage, PA |
85,579 | Keystone Weaving Mills, Inc., Unitemp | Lebanon, PA |
85,581 | AT&T Mobility Services LLC, AT&T Technology Operations—Mobility Network Reliability Center, AT&T Inc | Morristown, NJ |
85,585 | AGCO | Beloit, KS |
85,585A | AGCO | Hesston, KS |
85,589 | Original Chili Bowl, Windsor Foods | Tulsa, OK |
85,677 | Hitachi Zosen Catalyst USA, LLC, Hitachi Zosen Group Companies, Surge Staffing | Scottsboro, AL |
85,693 | Green Creek Wood Products LLC, Express Personnel, Grays Harbor Saw Services, Laborworks Industrial | Port Angeles, WA |
85,719 | Mastercraft Specialties Inc | Red Lion, PA |
85,720 | Xerox Commercial Solutions, LLC, Utah Healthcare Division | Kennett, MO |
85,790 | Corsa Coal Corporation, PBS Coals Limited/Rox Coal, Inc., Weyant Trucking, LLC | Friedens, PA |
85,816 | Weir Slurry Group, Inc., Weir Minerals, Weir Hazleton, Inc., OneSource Staffing | Hazleton, PA |
85,881 | Nabors Completion & Services Company, C&J Energy Services, Ltd | Gaylord, MI |
85,956 | Cameron International Corporation, Measurement Division | Duncan, OK |
85,988 | Next IT Corporation | Spokane, WA |
86,010 | Convergys Corporation | Pharr, TX |
86,020 | Harsco Corporation, DBA Harsco Industrial Air-X-Changers, Aerotech Employment Agency, etc | Catoosa, OK |
86,022 | Oil States Energy Services LLC, Oil States Management, Inc | Canonsburg, PA |
86,024 | Chart, Chart Industries, Inc., Distribution & Storage Division, Aerotek, Inc | Owatonna, MN |
86,024A | Chart, Chart Industries, Inc., Distribution & Storage Division, Aerotek, Inc | New Prague, MN |
86,041 | L.A. Darling Company, Wood Division, Marmon Group, Berkshire Hathaway, People Resource, etc | Piggott, AR |
86,045 | Riley Gear Corporation | North Tonawanda, NY |
86,059 | OGCI Training, Inc., 2930 South Yale Avenue, Rowland Group, LLC | Tulsa, OK | March 16, 2016
86,059A | OGCI Training, Inc., 7218 East 38th Street, Rowland Group, LLC | Tulsa, OK |
86,090 | CoorsTek Inc., CoorsTek Technical Ceramics Company, PeopleSource | Tulsa, OK |
86,098 | Mattel, Inc., Product Development Department, Pro Unlimited | El Segundo, CA |
86,111 | Seattle Snohomish Sawmill Co. Inc., Riverside Lumber, Labor Ready | Snohomish, WA |
86,113 | Soo Tractor LLC | Sioux City, IA |
86,118 | Wood Group Production & Consulting Services, Inc., Wood Group, PSN | Farmington, NM |
86,119 | FracMaster, LLC | Farmington, NM |
86,124 | EH Wachs, Illinois Tool Works, Manpower | Lincolnshire, IL |
90,014 | Kinedyne LLC, Manpower | Lawrence, KS |
90,033 | AT&T Telecommunications Relay Services, Relay Operations | New Castle, PA |
90,127 | Halliburton | Homer City, PA |
90,132 | Flint Energy Services, Inc., AECOM | Tulsa, OK |
90,160 | Baker Hughes Incorporated, Pressure Pumping Division | Clinton, OK |
90,175 | Universal Well Services, Inc | Bradford, PA |
90,194 | Stomaco Energy Services, Inc., 3203 Industrial Boulevard | Kilgore, TX |
90,220 | C&J Well Services, Inc., Formerly known as Nabors Completion and Production | El Reno, OK | March 8, 2016
90,307 | Sabine Oil and Gas Corporation, Forest Oil Corporation | Denver, CO |
90,339 | Verizon Corporate Resources Group, LLC—Finance Operations | Cedar Rapids, IA |
91,033 | Precision Energy Services, Inc., Weatherford International | Muncy, PA |
91,089 | Onsite Oil Tools, LLC | Yukon, OK |
91,265 | Rosebud Mining Company | Kittanning, PA |

Determinations Terminating Investigations Of Petitions For Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W number | Subject firm | Location | Impact date
85,856 | Norwich Pharmaceutical, Inc., Alvogen Group, Staffworks, Aerotek Scientific | Norwich, NY |
86,056 | Longview Fibre Paper and Packaging, Inc., Kapstone Paper and Packaging Corporation, Mill Division, etc | Longview, WA |
91,397 | Southwestern Energy Company | Conway, AR |
91,422 | Allegheny Technologies Incorporated, Flat Rolled Products | Washington, PA |
91,434 | Omak Wood Products LLC | Omak, WA |
91,435 | Allegheny Technologies Incorporated Allvac, Specialty Materials | Lockport, NY |
91,446 | Hologic | Bedford, MA |
91,448 | Jewel Acquisition, LLC, ATI Flat Rolled Products, Allegheny Technologies Incorporated | Louisville, OH |
91,449 | Digital Intelligence Systems | Tampa, FL |
91,466 | Allegheny Technologies Incorporated | New Bedford, MA |
91,467 | Allegheny Technologies Incorporated, Flat Rolled Products | Natrona Heights, PA |
91,468 | Allegheny Technologies Incorporated, Flat Rolled Products | Vandergrift, PA |
91,487 | Rex Energy Corporation | Bridgeport, IL |

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W number | Subject firm | Location | Impact date
90,189 | Runnells Specialized Hospital | Berkeley Heights, NJ |

The following determinations terminating investigations were issued because the petitioning groups of workers are covered by active certifications. Consequently, further investigation in these cases would serve no purpose since the petitioning group of workers cannot be covered by more than one certification at a time.

TA-W number | Subject firm | Location | Impact date
85,425 | Intrepid Potash Inc., Intrepid Potash, LLC-New Mexico, LLC-MOAB Delaware, LLC-Wendover, etc | Carlsbad, NM |
86,030 | Goodman Networks, Inc., Core Network Engineering (Deployment Engineering) Division | Plano, TX |
86,049 | California Redwood Company, Brainard Division, Green Diamond Resource Company, etc | Eureka, CA |
91,032 | Motorola Mobility, LLC, 222 West Merchandise Mart Plaza, #1800 | Chicago, IL |
91,032A | Motorola Mobility, LLC | Plantation, FL |
91,158 | Motorola Mobility | Fort Worth, TX |
91,308 | Seagate Technology, LLC | Shrewsbury, MA |
91,395 | Capital One US Card Operations, Capital One Services II LLC and Capital One Services, LLC | Tigard, OR |

The following determinations terminating investigations were issued because the petitions are the subject of ongoing investigations under petitions filed earlier covering the same petitioners.

TA-W number | Subject firm | Location | Impact date
91,294 | ESM Group Inc | Ashland, KY |
91,613 | Microfibres, Inc | Winston-Salem, NC |

I hereby certify that the aforementioned determinations were issued during the period of February 29, 2016 through March 25, 2016. These determinations are available on the Department's Web site https://www.doleta.gov/tradeact/taa/taa_search_form.cfm under the searchable listing of determinations. or by calling the Office of Trade Adjustment Assistance toll free at 888-365-6822.

Signed at Washington, DC this 1st day of April 2016.
Jessica R. Webster,
Certifying Officer, Office of Trade Adjustment Assistance,

[FR Doc. 2016-09550 Filed 4-25-16; 8:45 am]

BILLING CODE 4510-FN-P